INTERNATIONAL TRADE COMMISSION

Submission for OMB Review; Comment Request Agency Proposal for the Collection of Information Submitted to the Office of Management and Budget for Review; Renewal of Generic Clearances; Comment Request

AGENCY: United States International Trade Commission.

ACTION: Notice.

SUMMARY: Consistent with the Paperwork Reduction Act of 1995, the U.S. International Trade Commission (Commission) has submitted a proposal for the collection of information to the Office of Management and Budget (OMB) for approval. The proposed information collection is a three-year extension of the current generic clearance (approved by OMB under Control No. 3117-0222) under which the Commission can issue information collections for the collection of qualitative feedback on agency service delivery. Any comments submitted to OMB on the proposed information collection should be specific, indicating which part of the information collection plan is objectionable, describing the issue in detail, and including specific revisions or language changes. The Commission did not receive any comments in response to the 60-day notice that it published in the Federal Register on September 22, 2020.

DATES: To be assured of consideration, comments should be submitted to OMB within 30 days of the date this notice appears in the Federal Register.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: You may obtain copies of supporting documents from Zachary Coughlin (zachary.coughlin@usitc.gov or 202-205-3435). Hearing-impaired persons can obtain information on this matter by contacting the Commission's TDD terminal on 202-205-1810. You may also obtain general information concerning the Commission by accessing its website (https://www.usitc.gov).

SUPPLEMENTARY INFORMATION:

(1) Need for the Proposed Information Collections

The proposed information collection activity provides a means to garner qualitative customer and stakeholder feedback in an efficient, timely manner. This qualitative feedback provides useful insights on perceptions and opinions of customers and stakeholders. The feedback helps the Commission gain understanding into customer or stakeholder experiences and expectations and provides an early warning of issues with service, or focus attention on areas where communication, training or changes in operations might improve delivery of products or services. These collections allow for ongoing, collaborative and actionable communications between the Commission and its customers and stakeholders and contribute directly to the improvement of program management.

(2) Description of the Information To Be Collected

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on the Commission's services will be unavailable. Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential nonresponse bias, the protocols for data collection, and any testing procedures that were or will be undertaken prior to fielding the study. As a general matter, information collections will not result in any new system of records containing privacy information and will not ask questions of a sensitive nature.

The Agency will only submit a collection for approval under this generic clearance if it meets the following conditions:

• The collections are voluntary;

• The collections are low-burden for respondents (based on considerations of total burden hours, total number of respondents, or burden-hours per respondent) and are low-cost for both the respondents and the Federal Government;

• The collections are noncontroversial and do not raise issues of concern to other Federal agencies;

• Any collection is targeted to the solicitation of opinions from respondents who have experience with the program or may have experience with the program in the near future;

• Personally identifiable information (PII) is collected only to the extent necessary and is not retained;

• Information gathered will be used only internally for general service improvement and program management purposes and is not intended for release outside of the agency;

• Information gathered will yield qualitative information; the collections will not be designed or expected to yield statistically reliable results or used as though the results are generalizable to the population of study.

(3) Estimated Burden of the Proposed Information Collection

The Commission estimates that information collections issued under the requested generic clearance will impose an average annual burden of 300 hours on 600 respondents.

No record-keeping burden is known to result from the proposed collection of information.

By order of the Commission,
Issued: November 18, 2020.
Lisa Barton,
Secretary to the Commission.

[FR Doc. 2020-25908 Filed 11-23-20; 8:45 am]

BILLING CODE 7020-02-P